DEPARTMENT OF ENERGY

Federal Energy Regulatory Commission

Combined Notice of Filings #1

Take notice that the Commission received the following electric corporate filings:

Docket Numbers: EC20-81-000.

Applicants: Fowler Ridge Wind Farm LLC.

Description: Application for Authorization Under Section 203 of the Federal Power Act, et al. of Fowler Ridge Wind Farm LLC.

Filed Date: 7/13/20.

Accession Number: 20200713-5225.

Comments Due: 5 p.m. ET 8/3/20.

Take notice that the Commission received the following exempt wholesale generator filings:

Docket Numbers: EG20-208-000.

Applicants: Reloj del Sol Wind Farm LLC.

Description: Notice of Self-Certification of Exempt Wholesale Generator Status of Reloj del Sol Wind Farm LLC.

Filed Date: 7/14/20.

Accession Number: 20200714-5029.

Comments Due: 5 p.m. ET 8/4/20.

Docket Numbers: EG20-209-000.

Applicants: Wildcat Creek Wind Farm LLC.

Description: Notice of Self-Certification of Exempt Wholesale Generator Status of Wildcat Creek Wind Farm LLC.

Filed Date: 7/14/20.

Accession Number: 20200714-5030.

Comments Due: 5 p.m. ET 8/4/20.

Docket Numbers: EG20-210-000.

Applicants: Copper Mountain Solar 5, LLC.

Description: Notice of Self-Certification of Exempt Wholesale Generator Status.

Filed Date: 7/14/20.

Accession Number: 20200714-5077.

Comments Due: 5 p.m. ET 8/4/20.

Docket Numbers: EG20-211-000.

Applicants: Battle Mountain SP, LLC.

Description: Self-Certification of EG of Battle Mountain SP, LLC.

Filed Date: 7/14/20.

Accession Number: 20200714-5082.

Comments Due: 5 p.m. ET 8/4/20.

Take notice that the Commission received the following electric rate filings:

Docket Numbers: ER14-1421-005.

Applicants: Diamond State Generation Partners, LLC.

Description: Report Filing: Refund Report [ER14-1421 and EL19-74] to be effective N/A.

Filed Date: 7/14/20.

Accession Number: 20200714-5090.

Comments Due: 5 p.m. ET 8/4/20.

Docket Numbers: ER19-1904-001.

Applicants: Nevada Power Company.

Description: Compliance filing: OATT Revision Attachment N 07.13.20 to be effective 5/22/2019.

Filed Date: 7/13/20.

Accession Number: 20200713-5240.

Comments Due: 5 p.m. ET 8/3/20.

Docket Numbers: ER19-2165-002.

Applicants: Western Interconnect LLC.

Description: Compliance filing: Order Nos. 845 and 845-A Compliance (ER19-2165-) Filing to be effective 5/22/2019.

Filed Date: 7/13/20.

Accession Number: 20200713-5204.

Comments Due: 5 p.m. ET 8/3/20.

Docket Numbers: ER20-1683-001.

Applicants: Wabash Valley Power Association, Inc.

Description: Tariff Amendment: Filing of Distributed Generation Policy D-11—Response to Deficiency Letter to be effective 7/14/2020.

Filed Date: 7/14/20.

Accession Number: 20200714-5028.

Comments Due: 5 p.m. ET 8/4/20.

Docket Numbers: ER20-1747-001.

Applicants: South Fork Wind, LLC.

Description: Compliance filing: South Fork Compliance Filing to be effective 7/8/2020.

Filed Date: 7/13/20.

Accession Number: 20200713-5193.

Comments Due: 5 p.m. ET 8/3/20.

Docket Numbers: ER20-1748-001.

Applicants: Ewington Energy Systems, LLC.

Description: Compliance filing: Ewington Energys Compliance Filing to be effective 7/8/2020.

Filed Date: 7/13/20.

Accession Number: 20200713-5201.

Comments Due: 5 p.m. ET 8/3/20.

Docket Numbers: ER20-2403-000.

Applicants: PJM Interconnection, L.L.C.

Description: § 205(d) Rate Filing: Original WMPA, Service Agreement No. 5694; Queue No. AF1-022 to be effective 6/11/2020.

Filed Date: 7/13/20.

Accession Number: 20200713-5215.

Comments Due: 5 p.m. ET 8/3/20.

Docket Numbers: ER20-2404-000.

Applicants: Midwest Generation, LLC.

Description: § 205(d) Rate Filing: Market-Based Rate Tariff Revisions to be effective 7/14/2020.

Filed Date: 7/13/20.

Accession Number: 20200713-5219.

Comments Due: 5 p.m. ET 8/3/20.

Docket Numbers: ER20-2405-000.

Applicants: Oswego Harbor Power LLC.

Description: § 205(d) Rate Filing: Market-Based Rate Tariff Revisions to be effective 7/14/2020.

Filed Date: 7/13/20.

Accession Number: 20200713-5221.

Comments Due: 5 p.m. ET 8/3/20.

Docket Numbers: ER20-2406-000.

Applicants: Vienna Power LLC.

Description: § 205(d) Rate Filing: Market-Based Rate Tariff Revisions to be effective 7/14/2020.

Filed Date: 7/13/20.

Accession Number: 20200713-5223.

Comments Due: 5 p.m. ET 8/3/20.

Docket Numbers: ER20-2407-000.

Applicants: Puget Sound Energy, Inc.

Description: § 205(d) Rate Filing: City of Seattle Tolt River Agreements to be effective 7/1/2020.

Filed Date: 7/13/20.

Accession Number: 20200713-5224.

Comments Due: 5 p.m. ET 8/3/20.

Docket Numbers: ER20-2408-000.

Applicants: Midcontinent Independent System Operator, Inc.

Description: Compliance filing: 2020-07-13 SA 3524 Ameren-Broadlands Wind Farm FSA for FCA (J468) to be effective 10/1/2020.

Filed Date: 7/13/20.

Accession Number: 20200713-5227.

Comments Due: 5 p.m. ET 8/3/20.

Docket Numbers: ER20-2409-000.

Applicants: Louisville Gas and Electric Company.

Description: § 205(d) Rate Filing: Interconnection Agreement with OVEC to be effective 9/11/2020.

Filed Date: 7/13/20.

Accession Number: 20200713-5235.

Comments Due: 5 p.m. ET 8/3/20.

Docket Numbers: ER20-2410-000.

Applicants: Kentucky Utilities Company.

Description: § 205(d) Rate Filing: KU Concurrence OVEC IA to be effective 9/11/2020.

Filed Date: 7/13/20.

Accession Number: 20200713-5244.

Comments Due: 5 p.m. ET 8/3/20.

Docket Numbers: ER20-2411-000.

Applicants: Midcontinent Independent System Operator, Inc.

Description: Compliance filing: 2020-07-14_SA 2959 NSP-Stoneray Power Partners 2nd Rev GIA (J426) to be effective 12/31/9998.

Filed Date: 7/14/20.

Accession Number: 20200714-5037.

Comments Due: 5 p.m. ET 8/4/20.

Docket Numbers: ER20-2412-000.

Applicants: Midcontinent Independent System Operator, Inc.

Description: Compliance filing: 2020-07-14_SA 3513 NSP-Stoneray Power Partners FSA (J426) to be effective 6/30/2020.

Filed Date: 7/14/20.

Accession Number: 20200714-5038.

Comments Due: 5 p.m. ET 8/4/20.

Docket Numbers: ER20-2413-000.

Applicants: Ohio Valley Electric Corporation.

Description: § 205(d) Rate Filing: Certificate of Concurrence for Transmission Interconnection Agreement to be effective 9/11/2020.

Filed Date: 7/14/20.

Accession Number: 20200714-5039.

Comments Due: 5 p.m. ET 8/4/20.

Docket Numbers: ER20-2414-000.

Applicants: Moss Landing Energy Storage 1, LLC.

Description: Baseline eTariff Filing: Baseline New to be effective 9/13/2020.

Filed Date: 7/14/20.

Accession Number: 20200714-5045.

Comments Due: 5 p.m. ET 8/4/20.

Docket Numbers: ER20-2415-000.

Applicants: Moss Landing Energy Storage 2, LLC.

Description: Baseline eTariff Filing: Baseline New to be effective 9/13/2020.

Filed Date: 7/14/20.

Accession Number: 20200714-5046.

Comments Due: 5 p.m. ET 8/4/20.

Docket Numbers: ER20-2416-000.

Applicants: Northern States Power Company, a Minnesota corporation.

Description: § 205(d) Rate Filing: 2020-07-14 NSP-SHKP-SISA-678-0.0.0 to be effective 7/15/2020.

Filed Date: 7/14/20.

Accession Number: 20200714-5068.

Comments Due: 5 p.m. ET 8/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2020.
Nathaniel J. Davis, Sr.,
Deputy Secretary.

[FR Doc. 2020-15607 Filed 7-17-20; 8:45 am]

BILLING CODE 6717-01-P